POSTAL REGULATORY COMMISSION

[Docket No. CP2012-45; Order No. 1819]

Negotiated Service Agreement

AGENCY: Postal Regulatory Commission.

ACTION: Notice.

SUMMARY: The Commission is noticing a recent Postal Service filing concerning an amendment to Priority Mail Contract 39. This notice informs the public of the filing, invites public comment, and takes other administrative steps.

DATES: Comments are due: September 6, 2013.

ADDRESSES: Submit comments electronically via the Commission's Filing Online system at http://www.prc.gov. Those who cannot submit comments electronically should contact the person identified in the FOR FURTHER INFORMATION CONTACT section by telephone for advice on filing alternatives.

FOR FURTHER INFORMATION CONTACT: Stephen L. Sharfman, General Counsel, at 202-789-6820.

SUPPLEMENTARY INFORMATION:

Table of Contents

I. Introduction

II. Notice of Filings

III. Ordering Paragraphs

I. Introduction

On August 28, 2013, the Postal Service filed notice that it has agreed to an amendment to the existing Priority Mail Contract 39 subject to this docket.¹ The Postal Service includes one attachment in support of its Notice:

¹ Notice of United States Postal Service of Amendment to Priority Mail Contract 39, With Portions Filed Under Seal, August 28, 2013 (Notice).

• Attachment A—a redacted copy of the amendment to the existing Priority Mail Contract 39.

The Postal Service also filed the unredacted amendment under seal. It asserts that the “supporting financial documentation and financial certification initially provided in this docket remain applicable.” Id. at 1. It also contends that the amendment “will not materially affect the cost coverage” of the product. Id. The Postal Service seeks to incorporate by reference the Application for Non-Public Treatment originally filed in this docket for the protection of customer-identifying information that it has filed under seal. Id.

The amendment changes the contracting partner to include the contracting partner's subsidiaries. Id. Attachment A at 1. The Postal Service intends for the amendment to become effective on the first business day after the date that the Commission completes its review of the Notice. Id.

II. Notice of Filings

Interested persons may submit comments on whether the changes presented in the Postal Service's Notice are consistent with the policies of 39 U.S.C. 3632, 3633, or 3642, 39 CFR 3015.5, and 39 CFR part 3020, subpart B. Comments are due no later than September 6, 2013. The public portions of these filings can be accessed via the Commission's Web site (http://www.prc.gov).

Curtis E. Kidd will continue to serve as Public Representative in this docket.

III. Ordering Paragraphs

It is ordered:

1. The Commission reopens Docket No. CP2012-45 for consideration of matters raised by the Postal Service's Notice.

2. Pursuant to 39 U.S.C. 505, Curtis E. Kidd will continue to serve as an officer of the Commission (Public Representative) to represent the interests of the general public in this proceeding.

3. Comments are due no later than September 6, 2013.

4. The Secretary shall arrange for publication of this order in the Federal Register.

By the Commission.
Ruth Ann Abrams,
Acting Secretary.

[FR Doc. 2013-21507 Filed 9-4-13; 8:45 am]

BILLING CODE 7710-FW-P